POSTAL SERVICE

39 CFR Part 111

New Standards for Periodicals Mail Prepared in Sacks

AGENCY: Postal Service.

ACTION: Proposed rule.

SUMMARY: We are proposing new standards to reduce handling costs for Periodicals mail prepared in sacks. Our proposal includes the following changes: two new types of sacks: a 3-digit carrier routes sack and a merged 3-digit sack; and a new minimum of 24 pieces for most other sacks.

DATES: We are proposing to make these changes on March 1, 2006. We must receive your comments on or before September 14, 2005.

ADDRESSES: Mail or deliver written comments to the Manager, Mailing Standards, U.S. Postal Service, 475 L'Enfant Plaza, SW., Room 3436, Washington, DC 20260-3436. You may inspect and photocopy all written comments at USPS Headquarters Library, 475 L'Enfant Plaza, SW., 11th Floor N, Washington, DC between 9 a.m. and 4 p.m., Monday through Friday.

FOR FURTHER INFORMATION CONTACT: Joel Walker, 202-268-7266.

SUPPLEMENTARY INFORMATION: The Postal Service and the Periodicals mailing industry are working together to control costs. We can reduce the costs of transporting and processing mail in sacks by requiring more pieces in most sacks of Periodicals mail and by adding two new types of sacks: a 3-digit carrier routes sack and a merged 3-digit sack. We are creating these new sacks to eliminate 5-digit sacks with fewer than 24 pieces while preserving carrier route rate eligibility.

New 3-Digit Carrier Routes Sack for Carrier Route Mailings

This sack contains pieces sorted to carrier routes in a 3-digit area, consolidating the bundles formerly prepared in 5-digit carrier routes sacks containing fewer than 24 pieces.

• This sack must contain a minimum of one six-piece carrier route bundle.

• This sack may contain additional carrier route bundles of fewer than six pieces when those pieces are paid at the basic rate.

New Merged 3-Digit Sack for Merged Mailings

This sack consolidates carrier route, automation, and presorted bundles formerly prepared in merged 5-digit sacks containing fewer than 24 pieces.

• Mailers must prepare this sack if they have one or more carrier route bundles for the 3-digit area once all carrier route and merged 5-digit sacks containing 24 or more pieces are prepared.

• If a mailing does not include at least one carrier route bundle for the 3-digit area, the merged 3-digit sack must contain a minimum of 24 pieces prepared in 5-digit, 5-digit scheme, 3-digit, and 3-digit scheme bundles.

New 24-Piece Minimum

In addition to the two new types of sacks, we can reduce costs by requiring a minimum of 24 pieces in:

• Carrier route sacks,

• 5-digit carrier routes sacks,

• 5-digit scheme carrier routes sacks,

• 5-digit sacks,

• 5-digit scheme sacks,

• Merged 5-digit sacks,

• Merged 5-digit scheme sacks,

• 3-digit sacks,

• 3-digit scheme sacks,

• SCF sacks, and

• ADC sacks.

The proposed standards and how they are applied for different mail preparation options for Periodicals are provided below. We are proposing to make these changes on March 1, 2006.

Although exempt from the notice and comment requirements of the Administrative Procedure Act (5 U.S.C 410(a)), the Postal Service invites comments on the following proposed revisions to Mailing Standards of the United States Postal Service, Domestic Mail Manual (DMM), incorporated by reference in the Code of Federal Regulations. See 39 CFR part 111.

List of Subjects in 39 CFR Part 111

Administrative practice and procedure, Postal Service.

PART 111—[AMENDED]

1. The authority citation for 39 CFR part 111 continues to read as follows:

Authority: 5 U.S.C. 552(a); 39 U.S.C. 101, 401, 403, 404, 414, 3001-3011, 3201-3219, 3403-3406, 3621, 3626, 5001.

2. Revise the following sections of Mailing Standards of the United States Postal Service, Domestic Mail Manual (DMM), as follows:

700 Special Standards

* * * * *

705 Advanced Preparation and Special Postage Payment Systems

* * * * *

9.0 Preparation for Cotraying and Cosacking Bundles of Automation and Presorted Flats

* * * * *

[Revise title in 9.2.4 to read as follows:]

9.2.4 Bundles With Fewer Than Six Pieces (“Low-Volume” Bundles)

[Revise 9.2.4 by adding a reference to 24 pieces to read as follows:]

5-digit and 3-digit bundles prepared under 707.22.0 and 707.25.0 or under 9.2.3 may contain fewer than six pieces when the publisher determines that such preparation improves service. These “low-volume” bundles may be placed in 5-digit, 3-digit, and SCF sacks that contain at least 24 pieces or on 5-digit, 3-digit, or SCF pallets. Pieces in low-volume bundles must claim the applicable basic Presorted or automation rate, except for firm bundles at Presorted rates as applicable under 707.22.3. [M910.2.4]

* * * * *

10.0 Preparation for Merged Containerization of Bundles of Flats Using City State Product

10.1 Periodicals

10.1.1 Basic Standards

* * * * *

[Revise item d by adding a reference to the City State Product to read as follows:]

d. Mailers must use the Carrier Route Indicators field in the City State Product (see 509.1.2) * * *

[Revise title in 10.1.3 to read as follows:]

10.1.3 Bundles With Fewer Than Six Pieces (“Low-Volume” Bundles)

[Revise 10.1.3 by restructuring the section for clarity and adding references to 24 pieces and merged 3-digit sacks to read as follows:]

Carrier route, 5-digit scheme, 5-digit, 3-digit scheme, and 3-digit bundles may contain fewer than six pieces when the publisher determines that such preparation improves service. Pieces in these “low-volume” bundles must be claimed at the basic rate. Low-volume bundles are permitted only when they are sacked or prepared on pallets as follows:

a. Place low-volume carrier route, 5-digit, 3-digit scheme, and 3-digit bundles in only carrier route, merged 5-digit scheme, 5-digit scheme carrier routes, merged 5-digit, 5-digit carrier routes, 5-digit, 3-digit, and SCF sacks that contain at least 24 pieces, or in merged 3-digit sacks that contain at least one six-piece carrier route bundle, or in origin/entry SCF sacks, or on merged 5-digit scheme, 5-digit scheme carrier routes, 5-digit scheme, merged 5-digit, 5-digit carrier routes, 5-digit, 5-digit metro, 3-digit, or SCF pallets, as appropriate.

b. Place low-volume 5-digit scheme bundles in only 5-digit scheme, 3-digit, and SCF sacks that contain at least 24 pieces, or in origin/entry SCF sacks, or on 3-digit or SCF pallets, as appropriate. [M920.1.3]

* * * * *

10.1.4 Sack Preparation and Labeling

[Revise 10.1.4 by adding the reference to 10.1.4h in the introductory paragraph, revising items b through g, adding new item h for merged 3-digit sacks, and revising and renumbering current item h as new item i to read as follows:]

Mailers must prepare sacks containing the individual carrier route and 5-digit bundles from the carrier route, automation rate, and Presorted rate mailings in the mailing job in the following manner and sequence. All carrier route bundles must be placed in sacks under 10.1.4a through 10.1.4e and 10.1.4h as described below.* * *

* * * * *

b. Merged 5-Digit Scheme. Required at 24 pieces. Fewer pieces not permitted. Permitted only when there is at least one 5-digit ZIP Code in the scheme with an “A” or “C” indicator in the City State Product. May contain carrier route bundles for any 5-digit ZIP Code(s) in a single scheme listed in L001 as well as automation rate 5-digit bundles and Presorted rate 5-digit bundles for those 5-digit ZIP Codes in the scheme that have an “A” or “C” indicator in the City State Product. For a 5-digit ZIP Code(s) in a scheme that has a “B” or “D” indicator in the City State Product, prepare sack(s) of automation rate and Presorted rate bundles under 10.1.4g and 10.1.4h. For 5-digit ZIP Codes not included in a scheme, prepare sacks under 10.1.4d through 10.1.4h.

1. Line 1: use L001, Column B.

2. Line 2: “PER” or “NEWS” as applicable; followed by “FLTS” or “IRREG” as applicable; followed by “CR/5D SCH.”

c. 5-Digit Scheme Carrier Routes. Required at 24 pieces. Fewer pieces not permitted. May contain only carrier route bundles for 5-digit ZIP Code(s) in a single scheme listed in L001 when all the 5-digits in the scheme have a “B” or “D” indicator in the City State Product. Must be prepared if there are any carrier route bundle(s) for such a scheme.

1. Line 1: use L001, Column B.

2. Line 2: “PER” or “NEWS” as applicable; followed by “FLTS” or “IRREG” as applicable; followed by “CR-RTS SCH.”

d. Merged 5-Digit. Required at 24 pieces. Fewer pieces not permitted. Must be prepared only for those 5-digit ZIP Codes that are not part of a scheme and that have an “A” or “C” indicator in the City State Product. May contain carrier route bundles, automation rate 5-digit bundles, and Presorted rate 5-digit bundles.

1. Line 1: use city, state, and 5-digit ZIP Code destination (see 707.21.1.2 for military mail).

2. Line 2: “PER” or “NEWS” as applicable; followed by “FLTS” or “IRREG” as applicable; followed by “CR/5D.”

e. 5-Digit Carrier Routes. Required at 24 pieces. Fewer pieces not permitted. Sack only carrier route bundles for a 5-digit ZIP Code remaining after preparing sacks under 10.1.4a through 10.1.4d to this level. May contain only carrier route bundles for any 5-digit ZIP Code that is not part of a scheme listed in L001 and that has a “B” or “D” indicator in the City State Product.

1. Line 1: use city, state, and 5-digit ZIP Code destination (see 707.21.1.2 for military mail).

2. Line 2: “PER” or “NEWS” as applicable; followed by “FLTS” or “IRREG” as applicable; followed by “CR-RTS.”

f. 5-Digit Scheme. Required at 24 pieces. Fewer pieces not permitted. May contain only automation rate and cobundled automation and Presorted rate 5-digit scheme bundles for the same 5-digit scheme destination.

1. Line 1: L007, Column B.

2. Line 2: “PER” or “NEWS” as applicable; followed by “FLTS 5D SCH BC.”

g. 5-Digit. Required at 24 pieces. Fewer pieces not permitted. May contain only automation rate 5-digit bundles, Presorted rate 5-digit bundles, and carrier route bundles for the same 5-digit ZIP Code for any 5-digit ZIP Code that has a “B” or “D” indicator in the City State Product.

1. Line 1: use city, state, and 5-digit ZIP Code destination (see 707.21.1.2 for military mail).

2. Line 2: “PER” or “NEWS” as applicable; followed by “FLTS 5D BC/NBC,” except if there are no automation rate bundles in the mailing job, label under 707.22.6e.

h. Merged 3-Digit. May contain carrier route bundles, any 5-digit and 5-digit scheme bundles remaining after preparing sacks under 10.1.4a through 10.1.4g, and any 3-digit and 3-digit scheme bundles. When preparation of this sack level is permitted, a sack must be prepared if there are any carrier route bundles for the 3-digit area. Required with at least one carrier route bundle. If there is not at least one carrier route bundle for the 3-digit area, the sack must contain a minimum of 24 pieces.

1. Line 1: use L002, Column A.

2. Line 2: “PER” or “NEWS” as applicable; followed by “FLTS” or “IRREG” as applicable, followed by “BC/NBC,” except if there are no automation rate bundles in the mailing job, label under 707.22.6e.

i. SCF Through Mixed ADC. Any 5-digit scheme and 5-digit bundles remaining after preparing sacks under 10.1.4a through 10.1.4h and all 3-digit, 3-digit scheme, ADC, and mixed ADC bundles must be sacked and labeled according to the applicable requirements under 9.2 for cosacking of automation rate and Presorted rate bundles, except if there are no automation rate bundles in the mailing job, sack and label under 707.22.6, or if there are no Presorted rate bundles in the mailing job, sack and label under 707.25.3. [M920.1.4]

11.0 Preparation of Cobundled Automation Rate and Presorted Rate Flats

* * * * *

11.2 Periodicals

* * * * *

[Revise 11.2.3 to read as follows:]

11.2.3 Bundles With Fewer Than Six Pieces (“Low-Volume” Bundles)

5-digit scheme, 5-digit, 3-digit scheme, and 3-digit bundles may contain fewer than six pieces when the publisher determines that such preparation improves service. Pieces in these “low-volume” bundles must be claimed at the basic rate. Low-volume bundles are permitted only when they are sacked or prepared on pallets as follows:

a. Place low-volume 5-digit and 3-digit bundles in only 5-digit scheme, 5-digit, 3-digit, and SCF sacks that contain at least 24 pieces; or in origin/entry SCF sacks; or on merged 5-digit scheme, 5-digit scheme, merged 5-digit, 5-digit, 5-digit metro, 3-digit, or SCF pallets, as appropriate.

b. Place low-volume 5-digit scheme and 3-digit scheme bundles in only 5-digit scheme, 3-digit, and SCF sacks that contain at least 24 pieces, or in origin/entry SCF sacks, or on 3-digit or SCF pallets, as appropriate. [M950.2.3]

* * * * *

707 Periodicals

* * * * *

13.0 Carrier Route Rate Eligibility

* * * * *

13.2 Sortation

13.2.1 Sequencing

* * * * *

[Revise item b by adding “3-digit carrier routes sacks” to read as follows:]

b. Nonletter-size mailings. Carrier route rates apply to carrier route bundles that are sorted onto pallets prepared under 705.8.0, 705.10.0, 705.12.0, or 705.13.0, as appropriate, or prepared in carrier route, 5-digit scheme (L001) carrier routes, 5-digit carrier routes, 3-digit carrier routes sacks under 23.0, or merged 3-digit sacks under 705.10.0. Sacks may be palletized under 705.8.0. [E230.2.1]

* * * * *

20.0 Sacks and Trays

* * * * *

22.0 Preparation of Presorted Periodicals

* * * * *

[Revise title of 22.4 to read as follows:]

22.4 Bundles With Fewer Than Six Pieces (“Low-Volume” Bundles)

[Revise 22.4 for clarity and to add reference to 24 pieces to read as follows:]

Nonletter-size Periodicals may be prepared in 5-digit and 3-digit bundles containing fewer than six pieces when the publisher determines that such preparation improves service. Pieces in these “low-volume” bundles must be claimed at the basic rate. Low-volume bundles are permitted only when they are sacked or prepared on pallets as follows:

a. Place bundles in only 5-digit, 3-digit, and SCF sacks that contain at least 24 pieces, or in origin/entry SCF sacks, as appropriate.

b. Place bundles on only merged 5-digit scheme, 5-digit scheme, merged 5-digit, 5-digit, 5-digit metro, 3-digit, and SCF pallets.

* * * * *

22.6 Sack Preparation—Flat-Size Pieces and Irregular Parcels

* * * * *

[Revise items a, b, c, and e to amend sack minimum requirements to read as follows:]

a. 5-digit: required at 24 pieces, fewer pieces not permitted.

b. 3-digit: required at 24 pieces, fewer pieces not permitted.

c. SCF: required at 24 pieces, fewer pieces not permitted.

* * * * *

e. ADC: required at 24 pieces, fewer pieces not permitted.

* * * * *

23.0 Preparation of Carrier Route Periodicals

* * * * *

23.4 Preparation—Flat-Size Pieces and Irregular Parcels

[Revise 23.4.1 by adding new item d for 3-digit carrier routes sacks and adding 24-piece minimums to all other sack levels to read as follows:]

23.4.1 Sacking and Labeling

Preparation sequence, sack size, and labeling:

a. Carrier route: required at 24 pieces, fewer pieces not permitted.

1. Line 1: use city, state, and 5-digit ZIP Code on mail (see 21.1.2 for overseas military mail).

2. Line 2: “PER” or “NEWS” as applicable; followed by “FLTS” or “IRREG” as applicable; followed by “WSS” for saturation rate mail, or “WSH” for high density rate mail, or “CR” for basic rate mail; followed by the route type and number.

b. 5-digit scheme carrier routes: required at 24 pieces, fewer pieces not permitted.

1. Line 1: use L001, Column B.

2. Line 2: “PER” or “NEWS” as applicable; followed by “FLTS” or “IRREG” as applicable; followed by “CR-RTS SCH.”

c. 5-digit carrier routes: required at 24 pieces, fewer pieces not permitted.

1. Line 1: use city, state, and 5-digit ZIP Code destination of bundles, preceded for military mail by the prefixes under 21.1.2.

2. Line 2: “PER” or “NEWS” as applicable; followed by “FLTS” or “IRREG” as applicable; followed by “CR-RTS.”

d. 3-digit carrier routes: optional with one six-piece bundle.

1. Line 1: use the city, state, and ZIP Code shown in L002, Column A that corresponds to the 3-digit ZIP Code prefix of bundles.

2. Line 2: “PER” or “NEWS” as applicable; followed by “FLTS” or “IRREG” (as applicable) “3D''; followed by “CR-RTS.” [M220.4.1]

* * * * *

[Revise 23.6 by revising the title, restructuring the text for clarity, correcting item a by deleting “merged 5-digit scheme” and “merged 5-digit,” and adding a reference to 24 pieces to read as follows:]

23.6 Bundles With Fewer Than Six Pieces (“Low-Volume” Bundles)

Nonletter-size Periodicals may be prepared in carrier route bundles containing fewer than six pieces when the publisher determines that such preparation improves service. Pieces in these “low-volume” bundles must be claimed at the basic rate. Low-volume carrier route bundles are permitted only when they are sacked or prepared on pallets as follows:

a. Place bundles in only 5-digit scheme carrier routes and 5-digit carrier routes sacks that contain at least 24 pieces, or 3-digit carrier routes or merged 3-digit sacks that contain at least one six-piece carrier route bundle.

b. Place bundles on only merged 5-digit scheme, 5-digit scheme carrier routes, merged 5 digit, 5-digit carrier routes, 5-digit metro, 3-digit, and SCF pallets.

* * * * *

25.0 Preparation of Flat-Size Automation Periodicals

25.1 Basic Standards

* * * * *

[Revise 25.1.9 for clarity and to add references to 24 pieces to read as follows:]

25.1.9 Exception—Periodicals Preparation

5-digit scheme, 5-digit, 3-digit scheme, and 3-digit bundles may contain fewer than six pieces when the publisher determines that such preparation improves service. Pieces in bundles containing fewer than six pieces (low-volume bundles) must be claimed at the basic rate. Low-volume bundles are permitted only when they are sacked or prepared on pallets under these conditions:

a. Place 5-digit and 3-digit bundles in only 5-digit scheme, 5-digit, 3-digit, and SCF sacks, as appropriate, that contain at least 24 pieces, or in merged 3-digit sacks that contain at least one six-piece carrier route bundle, or in origin/entry SCF sacks.

b. Place 5-digit and 3-digit bundles on only merged 5-digit scheme, 5-digit scheme, merged 5-digit, 5-digit, 5-digit metro, 3-digit, and SCF pallets, as appropriate.

c. Place 5-digit scheme and 3-digit scheme bundles in only 5-digit scheme, 3-digit, and SCF sacks, as appropriate, that contain at least 24 pieces, or in merged 3-digit sacks that contain at least one six-piece carrier route bundle, or in origin/entry SCF sacks.

d. Place 5-digit scheme and 3-digit scheme bundles on only 3-digit and SCF pallets, as appropriate.

* * * * *

25.3 Sacking and Labeling

* * * * *

[Revise items a through d and item f by amending sack minimum requirements to read as follows:]

a. 5-digit scheme; required at 24 pieces, fewer pieces not permitted; may contain 5-digit scheme bundles only; labeling: * * *

b. 5-digit; required at 24 pieces, fewer pieces not permitted; labeling: * * *

c. 3-digit; required at 24 pieces, fewer pieces not permitted; labeling: * * *

d. SCF: required at 24 pieces, fewer pieces not permitted; labeling: * * *

* * * * *

f. ADC: required at 24 pieces, fewer pieces not permitted; labeling: * * *

* * * * *

708 Technical Specifications

* * * * *

6.1.4 3-Digit Content Identifier Numbers

[Revise Exhibit 6.1.4 by adding new content identifier numbers to read as follows:]

* * * * *

PER Flats—Carrier Route

* * * * *

5-digit carrier routes sacks 386 PER FLTS 5D CR-RTS

* * * * *

3-digit carrier routes sacks 386 PER FLTS 3D CR-RTS

* * * * *

PER Flats—Merged Carrier Route, Automation, and Presorted

* * * * *

merged 3-digit sacks 322 PER FLTS CR/5D/3D

* * * * *

PER Irregular Parcels—Merged Carrier Route and Presorted

* * * * *

merged 3-digit sacks 390 PER IRREG CR/5D/3D

* * * * *

PER Irregular Parcels—Carrier Route

* * * * *

5-digit carrier routes sacks 396 PER IRREG 5D CR-RTS

* * * * *

3-digit carrier routes sacks 390 PER IRREG 3D CR-RTS

* * * * *

NEWS Flats—Carrier Route

* * * * *

5-digit carrier routes sacks 486 NEWS FLTS 5D CR-RTS

* * * * *

3-digit carrier routes sacks 486 NEWS FLTS 3D CR-RTS

* * * * *

NEWS Flats—Merged Carrier Route, Automation, and Presorted

* * * * *

merged 3-digit sacks 422 NEWS FLTS CR/5D/3D

* * * * *

NEWS Irregular Parcels—Merged Carrier Route and Presorted

* * * * *

merged 3-digit sacks 490 NEWS IRREG CR/5D/3D

* * * * *

NEWS Irregular Parcels—Carrier Route

* * * * *

5-digit carrier routes sacks 496 NEWS IRREG 5D CR-RTS

* * * * *

3-digit carrier routes sacks 490 NEWS IRREG 3D CR-RTS

* * * * *

We will publish an appropriate amendment to 39 CFR part 111 to reflect these changes if the proposal is adopted.

Neva R. Watson,
Attorney, Legislative.

[FR Doc. 05-16200 Filed 8-12-05; 8:45 am]

BILLING CODE 7710-12-P